SMALL BUSINESS ADMINISTRATION

[Declaration of Disaster #3555, Amdt. 3]

State of California

In accordance with a notice received from the Department of Homeland Security—Federal Emergency Management Agency, effective December 2, 2003, the above numbered declaration is hereby amended to establish the incident period for this disaster as beginning October 21, 2003 and continuing through December 2, 2003.

All other information remains the same, i.e., the deadline for filing applications for physical damage is January 9, 2004, and for economic injury the deadline is July 27, 2004.

(Catalog of Federal Domestic Assistance Program Nos. 59002 and 59008)
Dated: December 8, 2003.
Herbert L. Mitchell,
Associate Administrator for Disaster Assistance.

[FR Doc. 03-30847 Filed 12-12-03; 8:45 am]

BILLING CODE 8025-01-P